FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 9, 2012.

A. Federal Reserve Bank of Atlanta (Chapelle Davis, Assistant Vice President) 1000 Peachtree Street NE., Atlanta, Georgia 30309:

1. William David Major, Jimmy M. Agee, Larry W. Keller, M. Dale McCulloch, and Joe Wayne Hardy, all of Lebanon, Tennessee; James S. Short, Mt. Juliet, Tennessee; John H. Jordan, Clinton, Tennessee; David E. Davenport and Kenneth W. Victory, both of Smyrna, Tennessee; James A. Campbell, Nashville, Tennessee; William Kent Coleman, Murfreesboro, Tennessee; and Bruce G. Davis, Franklin, Tennessee; collectively acting in concert to acquire voting shares of The Community Bank of East Tennessee, Clinton, Tennessee.

B. Federal Reserve Bank of Chicago (Colette A. Fried, Assistant Vice President) 230 South LaSalle Street, Chicago, Illinois 60690-1414:

1. Sheldon B. Lubar, individually, and as part of a group acting in concert, with Marianne S. Lubar, both of River Hills, Wisconsin; David J. Lubar, Fox Point, Wisconsin; Susan Lubar Solvang, and Joan P. Lubar, both of Mequon, Wisconsin; to acquire control of Ixonia Bancshares, Inc., and thereby to indirectly acquire control of ISB Community Bank, both in Ixonia, Wisconsin.

C. Federal Reserve Bank of Minneapolis (Jacqueline G. King, Community Affairs Officer) 90 Hennepin Avenue, Minneapolis, Minnesota 55480-0291:

1. Steinhardt Capital Investors, LLLP, Steinhardt Capital Management, LLC, and David R. Steinhardt and Michael H. Steinhardt, all of New York, New York; to gain control of Mackinac Financial Corporation, and thereby indirectly gain control of MBank, both in Manistique, Michigan.

2. William Victor Eckles, Blue Earth, Minnesota; to retain control of FNB Bancshares, Inc., and thereby indirectly retain control of First Bank Blue Earth, both in Blue Earth, Minnesota.

D. Federal Reserve Bank of Dallas (E. Ann Worthy, Vice President) 2200 North Pearl Street, Dallas, Texas 75201-2272:

1. Mark Bain, Lubbock, Texas, individually, as co-trustee of the RMB 2012 Family Trust; trustee of the Ray Mark Bain 2007 Trust; and trustee of the Ray Mark Bain Children's Trusts; Michael Lewis Bain, Canyon, Texas, individually, as co-trustee of the RMB 2012 Family Trust; trustee of the Michael L. Bain 2007 Trust, and trustee of the Michael L. Bain Children's Trusts; Nancy Bain Seybert, Perryton, Texas, individually, as trustee of the Nancy Bain Seybert 2007 Trust; and trustee of the Nancy Bain Seybert Children's Trusts; Ray M. Bain and Barbara June Bain, both of Dimmitt, Texas; collectively a group acting in concert, to control, retain, and acquire voting shares of Plains Bancorp, Inc., Dimmitt, Texas, and thereby indirectly control, retain, and acquire voting shares of First United Bank, both in Dimmitt, Texas.

Board of Governors of the Federal Reserve System, April 19, 2012.
Robert deV. Frierson,
Deputy Secretary of the Board.

[FR Doc. 2012-9792 Filed 4-23-12; 8:45 am]

BILLING CODE 6210-01-P